DEPARTMENT OF THE TREASURY

Customs Service

[T.D. 01-84]

Retraction of Revocation or Cancellation Notice

AGENCY: U.S. Customs Service, Department of the Treasury.

ACTION: General Notice.

SUMMARY: The following Customs broker license numbers were erroneously included in a list of revoked or cancelled Customs broker licenses.

Name | License | Port Name
Bruce K. Fong | 06150 | San Francisco.
D.L. Bynum & Company, Inc | 12077 | Houston.
Perijo J. Bennett | 14146 | Baltimore.
R. Wilbur Smith & Co., Inc | 04001 | Houston.

Customs broker licenses numbered 06150, 12077, 14146, and 04001 remain valid.

Dated: November 9, 2001.
Bonni G. Tischler,
Assistant Commissioner, Office of Field Operations.

[FR Doc. 01-28672 Filed 11-15-01; 8:45 am]

BILLING CODE 4820-02-P